DEPARTMENT OF AGRICULTURE

Forest Service

Davy Crockett Resource Advisory Committee

AGENCY: Forest Service, USDA.

ACTION: Notice of meeting.

SUMMARY: The Davy Crockett Resource Advisory Committee will meet in Ratcliff, Texas. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to review, identify, prioritize and approve RAC Title II projects.

DATES: The meeting will be held July 28, 2011, 6 p.m.

ADDRESSES: The meeting will be held at the Davy Crockett Ranger Station conference room in Ratcliff, TX. The building address is: 18551 State Highway 7 East, Kennard, TX 75847. Written comments may be submitted as described under SUPPLEMENTARY INFORMATION.

All comments, including names and addresses when provided, are placed in the record and are available for public inspection and copying. The public may inspect comments received at the Davy Crockett Ranger Station. Please call ahead to (936) 655-2299 ext. 230 to facilitate entry into the building to view comments.

FOR FURTHER INFORMATION CONTACT: Gerald Lawrence, Jr., Designated Federal Officer, Davy Crockett National Forest, (936) 655-2299 ext. 225, glawrence@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION CONTACT.

SUPPLEMENTARY INFORMATION: The following business will be conducted: The committee will be asked to review, identify, prioritize and approve RAC Title II Projects, and to discuss the Lancaster Phase II and Groveton Phase II Stewardship Projects. Anyone who would like to bring related matters to the attention of the committee may file written statements with the committee staff before or after the meeting. The agenda will include time for people to make oral statements of three minutes or less. Individuals wishing to make an oral statement should request in writing by July 21, 2011 to be scheduled on the agenda. Written comments and requests for time for oral comments must be sent to 18551 State Highway 7 East, Kennard, TX 75847 or by e-mail to glawrence@fs.fed.us or via facsimile to (936) 655-2817.

Dated: July 11, 2011.
Gerald Lawrence, Jr.,
DFO.

[FR Doc. 2011-18124 Filed 7-18-11; 8:45 am]

BILLING CODE 3410-11-P